DEPARTMENT OF LABOR

Employment and Training Administration

[TA-W-50,049]

Cooper Industries, Inc., Cooper Power Systems Division; Waukesha, WI; Notice of Termination of Investigation

Pursuant to section 221 of the Trade Act of 1974, as amended, an investigation was initiated on November 12, 2002, in response to a worker petition filed on behalf of workers at Cooper Industries, Inc., Cooper Power Systems Division, Waukesha, Wisconsin.

The petitioning group of workers is covered by an earlier petition filed on November 12, 2002 (TA-W-50,048), that is the subject of an ongoing investigation for which a determination has not yet been issued. Further investigation in this case would duplicate efforts and serve no purpose; therefore the investigation under this petition has been terminated.

Signed in Washington, DC, this 15th day of January, 2003.
Richard Church,
Certifying Officer, Division of Trade Adjustment Assistance.

[FR Doc. 03-2561 Filed 2-3-03; 8:45 am]

BILLING CODE 4510-30-P